Memorandum of August 16, 2024

Delegation of Authority To Designate an Existing Official To Serve Within the Executive Branch as the Coordinator for Detained ISIS Members and Relevant Displaced Populations in Syria

Memorandum for the Secretary of State[,] the Secretary of the Treasury[,] the Secretary of Defense[,] the Attorney General[,] the Director of National Intelligence[,] the Assistant to the President for National Security Affairs[, and] the Administrator of the United States Agency for International Development

By the authority vested in me as President by the Constitution and the laws of the United States of America, including section 301 of title 3, United States Code, I hereby delegate to the Secretary of State, in consultation with the Assistant to the President for National Security Affairs, the Secretary of Defense, the Director of National Intelligence, the Secretary of the Treasury, the Administrator of the United States Agency for International Development, and the Attorney General, the authority to designate an existing official to serve within the executive branch as the Coordinator for Detained ISIS Members and Relevant Displaced Populations in Syria. This official will carry out the responsibilities consistent with section 1224 of the National Defense Authorization Act for Fiscal Year 2020 (Public Law 116-92), as amended by section 1262 of the National Defense Authorization Act for Fiscal Year 2024 (Public Law 118-31).

The delegation in this memorandum shall apply to any provision of any future public law that is the same or substantially the same as the provision referenced in this memorandum.

Upon exercise of this authority, the Secretary of State shall provide notice to the President through the Assistant to the President for National Security Affairs.

The Secretary of State is authorized and directed to publish this memorandum in the Federal Register.

THE WHITE HOUSE,

Washington, August 16, 2024

[FR Doc. 2024-19955

Filed 9-3-24; 8:45 am]

Billing code 4710-10-P